SOCIAL SECURITY ADMINISTRATION

20 CFR Part 404

[Docket No. SSA-2007-0058]

RIN 0960-AG58

Use of Date of Written Statement as Filing Date

AGENCY: Social Security Administration.

ACTION: Notice of proposed rulemaking.

SUMMARY: We propose to revise our rules for protective filing after we receive a written statement of intent to claim Social Security benefits under title II of the Social Security Act (the Act). Specifically, we propose to revise from 6 months to 60 days the time period during which you must file an application for benefits after the date of a notice we send explaining the need to file an application. We are proposing this revision to make the time period used in the title II program consistent with the time period used in other programs we administer under the Act. We believe that eliminating the difference between the time periods in the programs we administer would make it easier for the public to understand and follow our rules.

DATES: To be sure that your comments are considered, we must receive them by February 17, 2009.

ADDRESSES: You may submit comments by any one of four methods-Internet, facsimile, regular mail, or hand-delivery. Commenters should not submit the same comments multiple times or by more than one method. Regardless of which of the following methods you choose, please state that your comments refer to Docket No. SSA-2007-0058 to ensure that we can associate your comments with the correct regulation:

1. Federal eRulemaking portal at http://www.regulations.gov. (This is the most expedient method for submitting your comments, and we strongly urge you to use it.) In the Comment or Submission section of the Web page, type “SSA-2007-0058”, select “Go,” and then click “Send a Comment or Submission.” The Federal eRulemaking portal issues you a tracking number when you submit a comment.

2. Telefax to (410) 966-2830.

3. Letter to the Commissioner of Social Security, P.O. Box 17703, Baltimore, Maryland 21235-7703.

4. Deliver your comments to the Office of Regulations, Social Security Administration, 922 Altmeyer Building, 6401 Security Boulevard, Baltimore, Maryland 21235-6401, between 8 a.m. and 4:30 p.m. on regular business days.

All comments are posted on the Federal eRulemaking portal, although they may not appear for several days after receipt of the comment. You may also inspect the comments on regular business days by making arrangements with the contact person shown in this preamble.

Caution: All comments we receive from members of the public are available for public viewing in their entirety on the Federal eRulemaking portal at http://www.regulations.gov. Therefore, you should be careful to include in your comments only information that you wish to make publicly available on the Internet. We strongly urge you not to include any personal information, such as your Social Security number or medical information, in your comments.

FOR FURTHER INFORMATION CONTACT: Martin Sussman, Office of Regulations, Social Security Administration, 6401 Security Boulevard, Baltimore, MD 21235-6401. Call (410) 965-1767 for further information about these proposed rules. For information on eligibility or filing for benefits, call our national toll-free number 1-800-772-1213 or TTY 1-800-325-0778, or visit our Internet Web site, Social Security Online, at http://www.socialsecurity.gov.

SUPPLEMENTARY INFORMATION:

Electronic Version

The electronic file of this document is available on the date of publication in the Federal Register at http://www.gpoaccess.gov/fr/index.html.

What rules are we proposing to revise?

Time Period To File an Application after Submitting a Written Statement of Intent To Claim Benefits

We propose to revise our regulations at § 404.630(c), which explain when we will use the date of a written statement as your filing date for Social Security benefits under title II of the Act. We will use the date a written statement indicating your intent to claim benefits is filed with us as the date of your application for benefits if certain requirements are met. Under our current regulations, you must file the application for benefits within 6 months after the date of a notice we send advising you of the need to file an application. We propose to revise the time period to 60 days after the date of such notice.

Why are we proposing to change our rules?

As stated above, our current protective filing rules under title II allow us to protect your intent to file for a 6-month period Our current rules also allow for protective filing in the supplemental security income program under title XVI of the Act and the special veterans benefits program under title VIII of the Act. However, the time period in which an application must be filed in those programs is 60 days after the date of the notice we send advising you of the need to file an application.

Our program experience has shown that the public may be confused by the difference in time periods for protective filing in the programs we administer, and this confusion may cause them to lose benefits. This is especially true when claimants indicate they intend to file concurrent applications for more than one program, usually under titles II and XVI of the Act. The proposed change to the time period in which to file an application for benefits under title II would simplify program policies by making the time period consistent across the programs we administer under the Act.

The change we are proposing would also help streamline procedures for our field office employees who currently use separate protective filing procedures for claims under title II and title XVI. For instance, the proposed revision could reduce the need for separate notices for each program, providing instead for a single, combined notice. The time savings for field office employees would allow them to process additional claims, and thereby allow us to provide better public service. Ultimately, this change would benefit all applicants for Social Security benefits.

By making the filing period 60 days for title II, we encourage applicants to pursue claims promptly, which can reduce overall case processing time and ultimately provide benefits in a shorter period of time.

Moreover, expanded and updated methods of filing, including Internet applications, provide an opportunity to apply promptly, which we believe lessens the need for a 6-month protective filing period.

What programs would these proposed rules affect?

These proposed rules would affect claims for Social Security benefits under title II of the Act. In addition, to the extent that Medicare entitlement is based on whether you qualify for benefits under title II, these proposed rules would also affect the Medicare program.

What is our authority to make rules and set procedures for determining whether a person qualifies for benefits under title II of the Act?

Section 205(a) of the Act provides that:

The Commissioner of Social Security shall have full power and authority to make rules and regulations and to establish procedures, not inconsistent with the provisions of this title, which are necessary or appropriate to carry out such provisions, and shall adopt reasonable and proper rules and regulations to regulate and provide for the nature and extent of the proofs and evidence and the method of taking and furnishing the same in order to establish the right to benefits hereunder.

When will we start to use these rules?

We will not use these rules until we evaluate the public comments we receive on them, determine whether they should be issued as final rules, and issue final rules in the Federal Register. If we publish final rules, we will explain in the preamble how we will apply them. We will also summarize and respond to any public comments. Until the effective date of any final rules, we will continue to use our current rules.

Clarity of These Proposed Rules

Executive Order 12866, as amended, requires each agency to write all rules in plain language. In addition to your substantive comments on these proposed rules, we invite your comments on how to make them easier to understand.

For example:

• Have we organized the material to suit your needs?

• Are the requirements in the rules clearly stated?

• Do the rules contain technical language or jargon that is not clear?

• Would a different format (grouping and order of sections, use of headings, paragraphing) make the rules easier to understand?

• Would more (but shorter) sections be better?

• Could we improve clarity by adding tables, lists, or diagrams?

• What else could we do to make the rules easier to understand?

Regulatory Procedures

Executive Order 12866, as Amended

We have consulted with the Office of Management and Budget (OMB) and determined that these proposed rules meet the requirements for a significant regulatory action under Executive Order 12866, as amended. Thus, they were subject to OMB review.

Regulatory Flexibility Act

We certify that these proposed rules would not have a significant economic impact on a substantial number of small entities because they would affect only individuals. Thus, a regulatory flexibility analysis as provided in the Regulatory Flexibility Act, as amended, is not required.

Paperwork Reduction Act

These proposed rules contain reporting requirements in section § 404.630. These rules changes the protective filing period from 6 months to 60 days for title II claims. We previously accounted for this public reporting burden in the Information Collection Requests for an existing form the public uses to submit the information to SSA. Consequently, we are inserting a 1-hour placeholder burden in this section.

Regulation section | Description of public reporting requirement | Number of respondents (annually) | Frequency of response | Average burden per response (minutes) | Estimated annual burden
§ 404.630 | When members of the public state their intent to claim title II Social Security benefits, SSA sends them a notice telling them they must file an application for these benefits. This regulation section changes the time period in which they are required to file the application from six months to 60 days. |  |  |  | 1 hour (placeholder burden).
Total | N/A |  | N/A | N/A | 1

SSA is submitting an Information Collection Request for clearance of this regulation section to OMB. We are soliciting comments on the burden estimate; the need for the information; its practical utility; ways to enhance its quality, utility, and clarity; and ways to minimize the burden on respondents, including the use of automated techniques or other forms of information technology. If you would like to submit comments, please send them to the following locations:

Office of Management and Budget, Attn: Desk Officer for SSA, Fax Number: 202-395-6974, E-mail address: OIRA_Submission@omb.eop.gov;

Social Security Administration, Attn: Reports Clearance Officer, 1333 Annex, 6401 Security Blvd., Baltimore, MD 21235-0001, Fax Number: 410-965-6400, E-mail: OPLM.RCO@ssa.gov.

You can submit comments for up to 60 days after the publication of this notice; however, your comments will be most useful if you send them to SSA within 30 days of publication. To receive a copy of the OMB clearance package, contact the SSA Reports Clearance Officer using any of the above contact methods. We prefer to receive comments by e-mail or fax.

(Catalog of Federal Domestic Assistance Program Nos. 96.001, Social Security-Disability Insurance; 96.002, Social Security—Retirement Insurance; 96.004, Social Security—Survivors Insurance.)

List of Subjects in 20 CFR Part 404

Administrative practice and procedure; Blind, Disability benefits; Old-Age, Survivors, and Disability Insurance; Reporting and recordkeeping requirements; Social Security.

Dated: September 18, 2008.
Michael J. Astrue,
Commissioner of Social Security.

For the reasons set out in the preamble, we propose to amend subpart G of part 404 of chapter III of title 20 of the Code of Federal Regulations as set forth below:

PART 404—FEDERAL OLD-AGE, SURVIVORS AND DISABILITY INSURANCE (1950- )

Subpart G—[Amended]

1. The authority citation for subpart G continues to read as follows:

Authority: Secs. 202 (i), (j), (o), (p), and (r), 205(a), 216(i)(2), 223(b), 228(a), and 702(a)(5) of the Social Security Act (42 U.S.C. 402 (i), (j), (o), (p), and (r), 405(a), 416(i)(2), 423(b), 428(a), and 902(a)(5)).

2. Amend § 404.630(c) by revising the first sentence to read as follows:

§ 404.630 Use of date of written statement as filing date.

* * * * *

(c) The claimant files an application with us on an application form as described in § 404.611, or one is filed for the claimant by a person described in § 404.612, within 60 days after the date of a notice we will send advising of the need to file anapplication. * * *

* * * * *

[FR Doc. E8-29951 Filed 12-16-08; 8:45 am]

BILLING CODE 4191-02-P